NEIGHBORHOOD REINVESTMENT CORPORATION

Sunshine Act Meeting

TIME and DATE: 10 a.m.-Friday, June 25, 2004.

PLACE: Neighborhood Reinvestment Corporation, 1325 G Street, NW., Suite 800, Washington, DC 20005.

STATUS: Open.

CONTACT PERSON FOR MORE INFORMATION: Jeffrey T. Bryson, General Counsel/Secretary, 202-220-2372; jbryson@nw.org.

Agenda

I. Call to Order

II. Approval of Minutes: March 15, 2004, Regular Meeting

III. Election of Vice Chairman

IV. Personal Committee Report

V. Election of Officers

VI. Board of Appointments

a. Internal Audit Director

b. Assistant Secretary

VII. Committee Appointments

a. Audit Committee

b. Finance and Budget Committee

c. Corporate Administration Committee

VIII. Audit Committee Report

IX. Treasurer's Report

X. NeighborWorks® Marketing and Visibility—“Doing Business As”

XI. Fundraising Policies and Procedures

XII. Executive Directors Quarterly Management Report

XII. Adjournment

Jeffrey T. Bryson,
General Counsel-Secretary.

[FR Doc. 04-14294 Filed 6-18-04; 5:13 pm]

BILLING CODE 7570-01-M